PEACE CORPS

Information Collection Request; Submission for OMB Review

AGENCY: Peace Corps.

ACTION: 30-Day notice and request for comments.

SUMMARY: The Peace Corps will be submitting the following information collection request to the Office of Management and Budget (OMB) for review and approval. The purpose of this notice is to allow 30 days for public comment in the Federal Register preceding submission to OMB. We are conducting this process in accordance with the Paperwork Reduction Act of 1995 (44 U.S.C. Chapter 35).

DATES: Submit comments on or before November 26, 2014.

ADDRESSES: Interested persons are invited to submit comments regarding this proposal. Comments should refer to the proposal by name/or OMB approval number and should be sent via email to: oira_submission@omb.eop.gov or fax to: 202-395-3086. Attention: Desk Officer for Peace Corps.

FOR FURTHER INFORMATION CONTACT: Denora Miller, FOIA/Privacy Act Officer, Peace Corps, 1111 20th Street NW., Washington, DC 20526, (202) 692-1236, or email at pcfr@peacecorps.gov.

SUPPLEMENTARY INFORMATION: Peace Corps uses the confidential reference form in order to learn from someone, who knows a volunteer applicant and his or her background, whether the applicant possesses the necessary characteristics and skills to serve as a Volunteer.

OMB Control Number: 0420-0548.

Title: Peace Corps Response Volunteer Reference Forms.

Type of Review: Revision of a currently approved collection.

Affected Public: Individuals.

Respondents' Obligation to Reply: Voluntary.

Burden to the Public:

a. Number of interviewed applicants:* 700.

b. Number of references required per interviewed applicant:** 2.25.

c. Estimated number of reference forms received: 1,575.

d. Frequency of response: One time.

e. Completion time: 10 minutes.

f. Annual burden hours: 263.

*Reference information is collected only if an applicant is contacted for an interview.

**Returned Peace Corps Volunteers (RPCVs) must submit two references; one staff and one professional reference. These applicants comprise of approximately 75% of the total applicants interviewed. Applicants who have not previously served with the Peace Corps must submit three references; one personal and two professional references. These applicants comprise of approximately 25% of the total applicants interviewed. Therefore, the number of references required per interviewed applicants is calculated at 2.25.

GENERAL DESCRIPTION OF COLLECTION: The information collected in the Peace Corps Response Reference Forms is an integral part of the screening and selection process and is used to determine whether an applicant would be a good candidate as a Peace Corps Response Volunteer. The information obtained from these forms is used by the recruitment and placement specialists within the Office of Peace Corps Response.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice issued in Washington, DC, on October 21, 2014.
Dated: October 21, 2014.
Denora Miller,
FOIA/Privacy Act Officer, Management.

[FR Doc. 2014-25423 Filed 10-24-14; 8:45 am]

BILLING CODE 6051-01-P